Proclamation 8883 of October 5, 2012

German-American Day, 2012

By the President of the United States of America

A Proclamation

United by dreams of freedom, opportunity, and better lives for their families, generations of immigrants have crossed land and sea to pursue the American promise. With unfailing hope for the future they knew was possible here, German Americans have shared in that promise and contributed immeasurably to our Nation.

During the more than three centuries since the first German settlers arrived in North America, German immigrants and their descendants have played a vital role in every part of our society. With each generation, they have passed on to their children and grandchildren an enduring commitment to hard work, civic engagement, and family. Many German traditions are so ingrained in our Nation's story that many people are unaware of their origins, but the indelible mark they have left on the character of our country is unmistakable.

The United States is proud to count Germany as one of our closest and strongest allies. At its core, the alliance between our nations is a partnership between our peoples. For many years, citizens of both our countries—entrepreneurs, innovators, students, scientists, and soldiers—have worked together to forge a brighter future at home and around the world. Those bonds continue to grow stronger with lifelong connections cultivated through educational exchanges and valuable partnerships between our two nations. Today, we celebrate that spirit of collaboration, and we reflect on the innumerable ways generations of German Americans have enriched the American story.

NOW, THEREFORE, I, BARACK OBAMA, President of the United States of America, by virtue of the authority vested in me by the Constitution and the laws of the United States, do hereby proclaim October 6, 2012, as German-American Day. I encourage all Americans to learn more about the history of German Americans and reflect on the many contributions they have made to our Nation.

IN WITNESS WHEREOF, I have hereunto set my hand this fifth day of October, in the year of our Lord two thousand twelve, and of the Independence of the United States of America the two hundred and thirty-seventh.

[FR Doc. 2012-25231

Filed 10-11-12; 8:45 am]

Billing code 3295-F3